NATIONAL SCIENCE FOUNDATION

Advisory Committee for Geosciences; Committee of Visitors; Notice of Meeting

In accordance with the Federal Advisory Committee Act (Pub. L. 92-463, as amended), the National Science Foundation announces the following meeting:

Name: Advisory Committee for Geosciences; Committee of Visitors for the Focused Geosciences Education and Human Resource Development Activities (1755)

Date and Time: August 28-29, 2000—8:30 a.m.-5:00 p.m. each day; August 30, 2000—8:30 a.m.-12 noon

Place: Room 770, NSF, 4201 Wilson Boulevard, Arlington, VA 22230.

Type of Meeting: Part-Open—(see Agenda, below)

Contact Person: Dr. Michael A. Mayhew, Program Director, Education and Human Resources Program, Division of Earth Sciences, National Science Foundation, 4201 Wilson Boulevard, Arlington, VA 22230. Telephone: (703) 292-8557.

Purpose of Meeting: To carry out Committee of Visitors (COV) review, including program evaluation, GPRA assessments, and access to privileged materials.

Agenda

Closed: August 28 from 1:00-5:00—To review the merit review processes covering funding decisions made during the immediately preceding three fiscal years of the Earth Sciences Research Programs.

Open: August 28 from 8:30-12:00—Introductions, charge and general discussion of selection process. August 29 from 8:30-5:00 & August 30 from 8:30-12 noon—To assess the results of NSF program investments in the Focused Geosciences Education and Human Resource Development Activities. This shall involve a discussion and review of results focused on NSF and grantee outputs and related outcomes achieved or realized during the preceding three fiscal years. These results may be based on NSF grants or other investments made in earlier years.

Reason for Closing: During the closed session, the Committee will be reviewing proposal actions that will include privileged intellectual property and personal information concerning individuals associated with the proposals. These matters that are exempt under 5 U.S.C. 552b(c), (4) and (6) of the Government in the Sunshine Act would be improperly disclosed.

Dated: July 26, 2000.
Karen J. York,
Committee Management Officer.

[FR Doc. 00-19241 Filed 7-28-00; 8:45 am]

BILLING CODE 7555-01-M